DEPARTMENT OF COMMERCE

International Trade Administration

[A-823-808]

Preliminary Results of Five-Year Sunset Review of Suspended Antidumping Duty Investigation on Certain Cut-to-Length Carbon Steel Plate From Ukraine

AGENCY: Import Administration, International Trade Administration, Department of Commerce.

ACTION: Notice of preliminary results of full sunset review: certain cut-to-length carbon steel plate from Ukraine.

SUMMARY: On September 3, 2002, the Department of Commerce (“the Department”) initiated a sunset review of the suspended antidumping duty investigation on certain cut-to-length carbon steel plate (“CTL plate”) from Ukraine (67 FR 56268) pursuant to section 751(c) of the Tariff Act of 1930, as amended (“the Act”). On the basis of notices of intent to participate filed on behalf of domestic interested parties and adequate substantive comments filed on behalf of domestic and respondent interested parties, the Department is conducting a full (240-day) review. As a result of this review, the Department preliminarily finds that termination of the suspended antidumping duty investigation on CTL plate from Ukraine would likely lead to continuation or recurrence of dumping at the levels indicated in the Preliminary Results of Review section of this notice.

EFFECTIVE DATE: December 31, 2002.

FOR FURTHER INFORMATION CONTACT: Shannon M. McCormack or James P. Maeder, Office of Policy for Import Administration, International Trade Administration, U.S. Department of Commerce, 14th Street and Constitution Avenue, NW., Washington, DC 20230; telephone: (202) 482-2539 or (202) 482-3330, respectively.

SUPPLEMENTARY INFORMATION:

Scope of Review

The products covered by the sunset review of the suspended antidumping duty investigation on certain cut-to-length carbon steel plate from Ukraine include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in this review are flat-rolled products of nonrectangular cross-section where such cross-section is achieved subsequent to the rolling process (i.e., products which have been “worked after rolling”) for example, products which have been beveled or rounded at the edges. This merchandise is currently classified in the Harmonized Tariff Schedule of the United States (“HTS”) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Although the HTS subheadings are provided for convenience and customs purposes, the written description of the scope of this sunset review is dispositive. Specifically excluded from subject merchandise within the scope of this sunset review is grade X-70 steel plate.

History of Suspension Agreement

On December 3, 1996, the Department initiated an antidumping duty investigation under section 732 of the Tariff Act of 1930 (“the Act”) on certain cut-to-length carbon steel plate (“CTL plate”) from Ukraine. See Initiation of Antidumping Duty Investigations: Certain Cut-To-Length Carbon Steel Plate from the People's Republic of China, Ukraine, the Russian Federation, and the Republic of South Africa, 61 FR 64051 (December 3, 1996). On June 11, 1997, the Department preliminarily determined that CTL plate from Ukraine was being, or was likely to be, sold in the U.S. at less than fair value. See Preliminary Determination of Sales at Less Than Fair Value; Certain Cut-to-Length Carbon Steel Plate from Ukraine, 62 FR 31958 (Wednesday, June 11, 1997).

The Department suspended the antidumping duty investigation on October 24, 1997, on the basis of an agreement by the Government of Ukraine to restrict the volume of direct and indirect exports of CTL plate to the U.S. in order to prevent the suppression or undercutting of price levels of U.S. domestic like products. See Suspension of Antidumping Duty Investigation: Certain Cut-to-Length Carbon Steel Plate From Ukraine, 62 FR 61766 (October 24, 1997). Thereafter, the Department completed its investigation and published in the Federal Register its final determination of sales at less than fair market value. In the final determination, the Department calculated weighted-average dumping margins of 81.43 percent for JSC Azovstal Iron & Steel Works (“Azovstal”), 155.00 percent for JSC Ilyich Iron & Steel Works (“Ilyich”), and 237.91 for “all other” Ukrainian manufacturers, producers, and exporters of the subject merchandise. See Notice of Final Determination of Sales at Less Than Fair Value: Certain Cut-to-Length Carbon Steel Plate From Ukraine, 62 FR 61754 (November 19, 1997). The Suspension Agreement (“Agreement”) remains in effect for all manufacturers, producers, and exporters of CTL plate from Ukraine.

Background

On September 3, 2002, the Department initiated a sunset review of the suspended antidumping duty investigation on CTL plate from Ukraine, pursuant to section 751(c) of the Act. See Notice of Initiation of Five-Year (“Sunset”) Reviews, 61 FR 64051 (September 3, 2002). The Department received Notices of Intent to Participate on behalf of Bethlehem Steel Corporation (“Bethlehem”), United States Steel Corporation (“U.S. Steel”), IPSCO Steel Inc. (“IPSCO”), and Nucor Corporation (“Nucor”) (collectively, “domestic interested parties”), within the applicable deadline specified in section 351.218(d)(1)(i) of the Sunset Regulations. See Notices of Intent to Participate for IPSCO and Nucor (September 16, 2002) and Bethlehem and U.S. Steel (September 18, 2002). Domestic interested parties claimed interested-party status under section 771(9)(C) of the Act. Id. at 2. In addition, domestic interested parties assert that they are not related to a foreign producer/exporter and are not importers, or related to importers, of the subject merchandise. Id.

The Department received a complete substantive responses from the domestic interested parties within the 30-day deadline specified in the Sunset Regulations under section 351.218(d)(3)(i). See Substantive Responses for IPSCO and Nucor (October 2, 2002) and Bethlehem and U.S. Steel (October 3, 2002). On October 3, 2002, the Department received a complete substantive response from respondent interested parties Azovstal and Ilyich (collectively, “respondent interested parties”). See Substantive Response for Azovstal and Ilyich (October 3, 2002). Respondent interested parties assert that they participated fully in the original investigation and have exported CTL plate from Ukraine in accordance with the terms and conditions of the Agreement. Id. at 4. Respondent interested parties claimed interested-party status under section 771(9)(A) of the Act as foreign manufacturers, producers, and exporters of CTL plate from Ukraine. Id. at 2. Lastly, domestic interested parties filed rebuttal responses to respondent interested parties' substantive response on October 8, 2002. See Rebuttal Responses from Domestic Interested Parties (October 8, 2002).

In a sunset review, the Department normally will conclude that there is adequate response to conduct a full sunset review where respondent interested parties account for more than 50 percent, by volume, of total exports of subject merchandise to the United States. See 19 CFR 351.218(e)(1)(ii)(A) (63 FR 13516 (March 20, 1998)). After examining the respondent interested parties' total exports of the subject merchandise, on October 23, 2002, the Department determined that the respondent interested parties accounted for more than 50 percent total production of the domestic like product. See Letter from Jeffrey A. May, Director, Office of Policy, Import Administration, to Lynn Featherstone, Director, Office of Investigations, International Trade Commission (October 23, 2002). Because the response of the respondent interested parties constituted an adequate response to the notice of initiation, the Department is conducting a full (240-day) sunset review in accordance with section 751(c)(3)(B) of the Act, and 19 CFR 351.218(e)(1)(i) and will issue final results of review not later than May 1, 2003.

Analysis of Comments Received

All issues raised by parties to this sunset review are addressed in the Issues and Decision Memorandum (“Decision Memorandum”) from Jeffrey A. May, Director, Office of Policy, Import Administration, to Faryar Shirzad, Assistant Secretary, Import Administration, dated December 23, 2002, which is adopted by this notice. The issues discussed in the Decision Memorandum include the likelihood of continuation or recurrence of dumping and the magnitude of the margins likely to prevail were the suspended antidumping duty investigation to be terminated. Parties may find a complete discussion of all issues raised in this review and the corresponding recommendations in this public memorandum which is on file in the Central Records Unit, room B-099, of the main Commerce building. In addition, a complete version of the Decision Memo can be accessed directly on the Web at http://ia.ita.doc.gov/frn, under the heading “December 2002.” The paper copy and electronic version of the Decision Memorandum are identical in content.

Preliminary Results of Review

We preliminarily determine that termination of the suspended antidumping duty investigation on CTL plate from Ukraine would likely lead to a continuation or recurrence of dumping at the following percentage weighted-average margins:

Manufacturer/producer/ exporter | Weighted- average margin percentage
Azovstal | 81.43
Ilyich | 155.00
Ukraine-wide | 237.91

Any interested party may request a hearing within 30 days of publication of this notice in accordance with 19 CFR 351.310(c). Interested parties may submit case briefs no later than February 10, 2003, in accordance with 19 CFR 351.309(c)(1)(i). Rebuttal briefs, which must be limited to issues raised in the case briefs, may be filed not later than February 17, 2003. Any hearing, if requested, will be held on February 19, 2003, in accordance with 19 CFR 351.310(d). The Department will issue a notice of final results of this sunset review, which will include the results of its analysis of issues raised in any such comments, no later than May 1, 2003.

This sunset review and notice are in accordance with sections 751(c), 752, and 777(i)(1) of the Act.

Dated: December 23, 2002.
Faryar Shirzad,
Assistant Secretary for Import Administration.

[FR Doc. 02-33010 Filed 12-30-02; 8:45 am]

BILLING CODE 3510-DS-P